SMALL BUSINESS ADMINISTRATION

[Disaster Declaration #10134]

Maine Disaster Number ME-00003

AGENCY: Small Business Administration

ACTION: Amendment 1.

SUMMARY: This is an amendment of the Presidential declaration of a major disaster for public assistance only for the State of Maine (FEMA-1591-DR), dated 06/29/2005.

Incident: Severe Storms, Flooding, Snow Melt, and Ice Jams.

Incident Period: 03/29/2005 through 05/03/2005.

EFFECTIVE DATE: 08/10/2005.

Physical Loan Application Deadline Date: 08/29/2005.

ADDRESSES: Submit completed loan applications to: U.S. Small Business Administration, Disaster Area Office 3, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the President's major disaster declaration for Private Non-Profit organizations in the State of Maine, dated 06/29/2005, is hereby amended to include the following areas as adversely affected by the disaster.

Primary Counties:

Aroostook

All other information in the original declaration remains unchanged.

(Catalog of Federal Domestic Assistance Number 59008.)
Becky C. Brantley,
Acting Associate Administrator for Disaster Assistance.

[FR Doc. 05-17586 Filed 9-2-05; 8:45 am]

BILLING CODE 8025-01-M